DEPARTMENT OF ENERGY

Federal Energy Regulatory Commission

Combined Notice of Filings #1

Take notice that the Commission received the following electric corporate filings:

Docket Numbers: EC21-111-000.

Applicants: Broad River Solar, LLC, Stony Knoll Solar, LLC, Speedway Solar NC, LLC, CPRE 1 Lessee, LLC.

Description: Application for Authorization Under Section 203 of the Federal Power Act of Broad River Solar, LLC.

Filed Date: 8/5/21.

Accession Number: 20210805-5156.

Comments Due: 5 p.m. ET 8/26/21.

Take notice that the Commission received the following exempt wholesale generator filings:

Docket Numbers: EG21-208-000.

Applicants: Arlington Solar, LLC.

Description: Notice of Self-Certification of Exempt Wholesale Generator Status of Arlington Solar, LLC.

Filed Date: 7/26/21.

Accession Number: 20210726-5240.

Comments Due: 5 p.m. ET 8/16/21.

Docket Numbers: EG21-209-000.

Applicants: American Electric Power Service Corporation.

Description: Self-Certification of Exempt Wholesale Generator Status of Martinsville OnSite Generation, LLC.

Filed Date: 7/29/21.

Accession Number: 20210729-5151.

Comments Due: 5 p.m. ET 8/19/21.

Docket Numbers: EG21-210-000.

Applicants: American Electric Power Service Corporation.

Description: Self-Certification of Exempt Wholesale Generator of South River OnSite Generation, LLC.

Filed Date: 7/29/21.

Accession Number: 20210729-5153.

Comments Due: 5 p.m. ET 8/19/21.

Docket Numbers: EG21-211-000.

Applicants: Ford County Wind Farm LLC.

Description: Notice of Sel- Certification of Exempt Wholesale Generator Status of Ford County Wind Farm LLC.

Filed Date: 8/6/21.

Accession Number: 20210806-5174.

Comments Due: 5 p.m. ET 8/27/21.

Take notice that the Commission received the following electric rate filings:

Docket Numbers: ER19-106-004; ER14-2498-011; ER14-2500-011.

ER16-2462-011; ER17-2364-005; ER21-445-001.

Applicants: Birdsboro Power LLC, St. Joseph Energy Center, LLC, Oregon Clean Energy, LLC, Newark Energy Center, LLC, EIF Newark, LLC, Hill Top Energy Center LLC.

Description: Notice of Non-Material Change in Status of Birdsboro Power LLC.

Filed Date: 8/5/21.

Accession Number: 20210805-5155.

Comments Due: 5 p.m. ET 8/26/21.

Docket Numbers: ER21-1805-002.

Applicants: Upper Missouri G. & T. Electric Cooperative.

Description: Tariff Amendment: Supplement to Response to Deficiency Letter (Revised Rate Schedules 1,2,3,5,11) to be effective 6/30/2021.

Filed Date: 8/6/21.

Accession Number: 20210806-5193.

Comments Due: 5 p.m. ET 8/27/21.

Docket Numbers: ER20-1829-001.

Applicants: Trans-Allegheny Interstate Line Company, PJM Interconnection, L.L.C.

Description: Compliance filing: TrAILCo submits Response to 7/12 Deficiency Letter in ER20-1829 to be effective N/A.

Filed Date: 8/6/21.

Accession Number: 20210806-5023.

Comments Due: 5 p.m. ET 8/27/21.

Docket Numbers: ER21-1875-001.

Applicants: Arizona Public Service Company.

Description: Tariff Amendment: Response to Deficiency Letter to be effective 7/10/2021.

Filed Date: 8/6/21.

Accession Number: 20210806-5001.

Comments Due: 5 p.m. ET 8/27/21.

Docket Numbers: ER21-2619-000.

Applicants: Southwest Power Pool, Inc.

Description: Compliance filing: 3293R2 Thunderhead Wind Energy GIA & Settlement Agreement to be effective 8/4/2021.

Filed Date: 8/6/21.

Accession Number: 20210806-5051.

Comments Due: 5 p.m. ET 8/27/21

Docket Numbers: ER21-2620-000.

Applicants: Midcontinent Independent System Operator, Inc.

Description: § 205(d) Rate Filing: 2021-08-06_Hybrid Resource Accreditation to be effective 10/6/2021.

Filed Date: 8/6/21.

Accession Number: 20210806-5068.

Comments Due: 5 p.m. ET 8/27/21.

Docket Numbers: ER21-2621-000.

Applicants: NorthWestern Corporation.

Description: § 205(d) Rate Filing: OATT Revisions re External Resources as NWE EIM Participating Resource to be effective 10/6/2021.

Filed Date: 8/6/21.

Accession Number: 20210806-5093.

Comments Due: 5 p.m. ET 8/27/21.

Docket Numbers: ER21-2622-000.

Applicants: RE Garland LLC.

Description: § 205(d) Rate Filing: Garland Storage Shared Facilities Agreement Amendment Filing to be effective 7/20/2021.

Filed Date: 8/6/21.

Accession Number: 20210806-5120.

Comments Due: 5 p.m. ET 8/27/21.

Docket Numbers: ER21-2623-000.

Applicants: Puget Sound Energy, Inc.

Description: Tariff Cancellation: Cancellation of MSCG Agreements to be effective 10/6/2021.

Filed Date: 8/6/21.

Accession Number: 20210806-5143.

Comments Due: 5 p.m. ET 8/27/21.

Docket Numbers: ER21-2624-000.

Applicants: Puget Sound Energy, Inc.

Description: § 205(d) Rate Filing: MSCG Transmission Service Agreement to be effective 8/6/2021.

Filed Date: 8/6/21.

Accession Number: 20210806-5144.

Comments Due: 5 p.m. ET 8/27/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 6, 2021.
Debbie-Anne A. Reese,
Deputy Secretary.

[FR Doc. 2021-17209 Filed 8-11-21; 8:45 am]

BILLING CODE 6717-01-P